DEPARTMENT OF HOUSING AND URBAN DEVELOPMENT

24 CFR Parts 5, 8, 42, 50, 91, 92, 93, 247, 290, 882, 888, 891, 903, 908, 943, 945, 960, 972, 982, 983, 985, and 1000

[Docket No. FR-6092-C-04]

RIN 2577-AD06

Housing Opportunity Through Modernization Act of 2016—Housing Choice Voucher (HCV) and Project-Based Voucher Implementation; Additional Streamlining Changes; Correction

AGENCY: Office of the Assistant Secretary for Public and Indian Housing, HUD.

ACTION: Final rule, correction.

SUMMARY: The Department of Housing and Urban Development is correcting a final rule entitled, “Housing Opportunity Through Modernization Act of 2016—Housing Choice Voucher (HCV) and Project-Based Voucher Implementation; Additional Streamlining Changes” that published on May 7, 2024.

DATES: Effective: June 6, 2024.

FOR FURTHER INFORMATION CONTACT: For information regarding this correction, contact Allison Lack, Assistant General Counsel for Regulations, Department of Housing and Urban Development, 451 7th Street SW, Room 10238, Washington, DC 20410; telephone number 202-708-1793 (this is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: On May 7, 2024, HUD published a final rule amending HUD's regulations to implement changes to the Housing Choice Voucher (HCV) and Project-Based Voucher (PBV) programs made by the Housing Opportunity Through Modernization Act of 2016 (HOTMA) (89 FR 38224) (FR Doc. 2024-08601). In reviewing the May 7, 2024, final rule, HUD identified five inadvertent errors.

First, in the final rule, certain amendments are delayed indefinitely. Initially, in the DATES heading, HUD incorrectly identified the delayed amendment to 24 CFR 983.157 as located in instruction 100. The correct instruction is 99.

Second, amendatory instruction 64 incorrectly states the existing regulatory text in § 982.402(b)(2) as “housing quality standards (HQS)”. In fact, the text to be replaced reads “housing quality standards”.

Third, § 983.10 incorrectly contains paragraph (b)(3) twice, each with the same text. This paragraph should only be included once.

Fourth, § 983.51(e)(2) incorrectly omits paragraph (ii) and instead contains two paragraphs designated “(iii)”, each with the same text. The first of the two paragraphs should be designated as paragraph (ii) and read: “The project meets the environmental review requirements at § 983.56, if applicable; and”.

Fifth, the revisions to part 983, subpart D incorrectly excluded § 983.157, which should have been removed. A subsequent instruction correctly adds a new § 983.157, although it is delayed pending future publication in the Federal Register.

Correction

Accordingly, FR Doc. 2024-08601, Housing Opportunity Through Modernization Act of 2016—Housing Choice Voucher (HCV) and Project-Based Voucher Implementation; Additional Streamlining Changes, published on May 7, 2024, (89 FR 38224) is corrected as follows:

1. On page 38224, in the first column, in the Dates section, the first paragraph is corrected to read as follows:

Effective date: June 6, 2024, except the following sections, which are delayed indefinitely: instruction 69, § 982.451(c); instruction 98, § 983.154(g) and (h); instruction 99, § 983.157; and instruction 103, § 983.204(e).

§ 982.402 [CORRECTED]

2. On page 38296, in the third column, in § 982.402, amendatory instruction 64 is corrected to read as follows:

64. Amend § 982.402(b)(2) by removing the words “housing quality standards” and adding, in their place, the term “HQS”.

§ 983.10 [CORRECTED]

3. On page 38308, in the second column, in § 983.10, remove the second paragraph (b)(3).

4. On page 38310, in the third column, correct § 983.51 by removing the first of the two paragraphs (e)(2)(iii), and adding, in its place, a paragraph (e)(2)(ii) to read as follows:

§ 983.51 Proposal and project selection procedures.

(e) * * *

(2) * * *

(ii) The project meets the environmental review requirements at § 983.56, if applicable; and

Subpart D [Corrected]

5. On page 38318, in the third column, amendatory instruction 97 is corrected to read as follows:

97. Amend subpart D by:

a. Revising § 983.151 through § 983.156; and

b. Removing § 983.157.

The revisions read as follows:

Allison Lack,
Assistant General Counsel for Regulations.

[FR Doc. 2024-11629 Filed 5-24-24; 8:45 am]

BILLING CODE 4210-67-P